COMMISSION ON CIVIL RIGHTS

Advisory Committees Expiration

AGENCY: United States Commission on Civil Rights.

ACTION: Solicitation of applications.

SUMMARY: Because the terms of the members of the Missouri Advisory Committee are expiring on July 24, 2016, the United States Commission on Civil Rights hereby invites any individual who is eligible to be appointed to apply. The memberships are exclusively for the Missouri Advisory Committee, and applicants must be residents of Missouri to be considered. Letters of interest must be received by the Central Regional Office of the U.S. Commission on Civil Rights no later than May 24, 2016. Letters of interest must be sent to the address listed below.

Because the terms of the members of the North Carolina Advisory Committee are expiring on July 24, 2016, the United States Commission on Civil Rights hereby invites any individual who is eligible to be appointed to apply. The memberships are exclusively for the North Carolina Advisory Committee, and applicants must be residents of the North Carolina to be considered. Letters of interest must be received by the Southern Regional Office of the U.S. Commission on Civil Rights no later than May 24, 2016. Letters of interest must be sent to the address listed below.

Because the terms of the members of the Arizona Advisory Committee are expiring on July 24, 2016, the United States Commission on Civil Rights hereby invites any individual who is eligible to be appointed to apply. The memberships are exclusively for the Arizona Advisory Committee, and applicants must be residents of the Arizona to be considered. Letters of interest must be received by the Western Regional Office of the U.S. Commission on Civil Rights no later than May 24, 2016. Letters of interest must be sent to the address listed below.

DATES: Letters of interest for membership on the Missouri Advisory Committee should be received no later than May 24, 2016.

Letters of interest for membership on the North Carolina Advisory Committee should be received no later than May 24, 2016.

Letters of interest for membership on the Arizona Advisory Committee should be received no later than May 24, 2016.

ADDRESSES: Send letters of interest for the Missouri Advisory Committee to: U.S. Commission on Civil Rights, Central Regional Office, 400 State Avenue, Suite 908, Missouri City, KS 66101. Letter can also be sent via email to csanders@usccr.gov.

Send letters of interest for the North Carolina Advisory Committee to: U.S. Commission on Civil Rights, Southern Regional Office, 61 Forsyth Street SW., Suite 1840T, Atlanta, GA 30303. Letter can also be sent via email to jhinton@usccr.gov.

Send letters of interest for the Arizona Advisory Committee to: U.S. Commission on Civil Rights, Western Regional Office, 300 North Los Angeles Street, Suite 2010, Los Angeles, CA 90012. Letter can also be sent via email to atrevino@usccr.gov.

FOR FURTHER INFORMATION CONTACT: David Mussatt, Chief, Regional Programs Unit, 55 W. Monroe St., Suite 410, Chicago, IL 60603, (312) 353-8311. Questions can also be directed via email to dmussatt@usccr.gov.

SUPPLEMENTARY INFORMATION: The Missouri, North Carolina, and Arizona Advisory Committees are statutorily mandated federal advisory committees of the U.S. Commission on Civil Rights pursuant to 42 U.S.C. 1975a. Under the charter for the advisory committees, the purpose is to provide advice and recommendations to the U.S. Commission on Civil Rights (Commission) on a broad range of civil rights matters in its respective state that pertain to alleged deprivations of voting rights or discrimination or denials of equal protection of the laws because of race, color, religion, sex, age, disability, or national origin, or the administration of justice. Advisory committees also provide assistance to the Commission in its statutory obligation to serve as a national clearinghouse for civil rights information.

Each advisory committee consists of not more than 19 members, each of whom will serve a four-year term. Members serve as unpaid Special Government Employees who are reimbursed for travel and expenses. To be eligible to be on an advisory committee, applicants must be residents of the respective state or district, and have demonstrated expertise or interest in civil rights issues.

The Commission is an independent, bipartisan agency established by Congress in 1957 to focus on matters of race, color, religion, sex, age, disability, or national origin. Its mandate is to:

• Investigate complaints from citizens that their voting rights are being deprived,

• study and collect information about discrimination or denials of equal protection under the law,

• appraise federal civil rights laws and policies,

• serve as a national clearinghouse on discrimination laws,

• submit reports and findings and recommendations to the President and the Congress, and

• issue public service announcements to discourage discrimination.

The Commission invites any individual who is eligible to be appointed a member of the Missouri, North Carolina, or Arizona Advisory Committee covered by this notice to send a letter of interest and a resume to the respective address above.

Dated: March 14, 2016.
David Mussatt,
Chief, Regional Programs Unit.

[FR Doc. 2016-06080 Filed 3-17-16; 8:45 am]

BILLING CODE 6335-01-P